NUCLEAR REGULATORY COMMISSION

[Docket No. 50-344, License No. NPF-1; Docket No. 72-017, License No. SNM-2509]

Portland General Electric Company; Notice of Consideration of Approval of Portland General Electric Company's Application for Consent for Indirect Transfer of Facility Licenses for the Trojan Nuclear Plant and Trojan Independent Spent Fuel Storage Installation and Opportunity for Hearing

The U.S. Nuclear Regulatory Commission (the Commission or NRC) is considering the issuance of an order under 10 CFR 50.80 and 72.50 approving the indirect transfer of Portland General Electric's (PGE's) licenses NPF-1 [for the Trojan Nuclear Plant (TNP)] and SNM-2509 [for the Trojan Independent Spent Fuel Storage Installation (ISFSI)] from Enron Corp. (Enron) to Oregon Electric Utility Company, LLC (OEUC).

In a letter dated June 14, 2004, Portland General Electric Company (PGE) requested NRC consent to the acquisition of all the issued and outstanding common shares of PGE stock by OEUC. PGE owns 67.5 percent interest in the TNP and the Trojan ISFSI. According to the application, on November 18, 2003, PGE's corporate parent Enron and OEUC entered into a definitive agreement (the Transaction) under which OEUC will acquire all of the issued, and outstanding, common shares of PGE stock and become the sole owner of PGE. OEUC is an Oregon limited liability company formed for the sole purpose of holding the common stock ownership of PGE. PGE would continue to be the NRC licensee of TNP and the Trojan ISFSI. In its application, PGE states that no physical changes will be made to the TNP or the Trojan ISFSI as a result of the proposed indirect transfer of the TNP and Trojan ISFSI licenses. Further, PGE states that the proposed transfers will not involve any changes to the current TNP or Trojan ISFSI licensing bases.

Pursuant to 10 CFR 50.80 and 72.50, no license, or any right thereunder, shall be transferred, directly or indirectly, through transfer of control of the license, unless the Commission shall give its consent in writing. The Commission will approve an application for the indirect transfer of a license, if the Commission determines that the underlying transaction that will effectuate the indirect transfer will not affect the qualifications of the holder of the license, and that the transfer is otherwise consistent with applicable provisions of law, regulations, and orders issued by the Commission pursuant thereto.

The filing of requests for hearing and petitions for leave to intervene, and written comments with regard to the license transfer application, are discussed below.

Any person whose interest may be affected by the Commission's action on the application may request a hearing by November 15, 2004, and, if not the applicant, may petition for leave to intervene in a hearing proceeding on the Commission's action. Requests for a hearing and petitions for leave to intervene should be filed in accordance with the Commission's rules of practice set forth in Subpart M, “Public Notification, Availability of Documents and Records, Hearing Requests and Procedures for Hearings on License Transfer Applications,” of 10 CFR Part 2. In particular, such requests and petitions must comply with the requirements set forth in 10 CFR 2.309, and should address the considerations contained in 10 CFR 2.309(d) and (f). Untimely requests and petitions may be denied, as provided in 10 CFR 2.309(c), unless good cause for failure to file on time is established. In addition, an untimely request or petition should address the factors that the Commission will also consider, in reviewing untimely requests or petitions, set forth in 10 CFR 2.309(c)(1)(I)-(viii).

Requests for a hearing and petitions for leave to intervene should be served upon Samuel Behrends IV, LeBouef, Lamb, Greene & McRae, 1875 Connecticut Ave., NW., Suite 1200, Washington, DC 20009 (sbehrend@llgm.com) and Jay E. Silberg, Shaw Pittman LLP, 2300 N Street, NW., Washington, DC 20037 (JaySilberg@shawpittman.com); the General Counsel, U.S. Nuclear Regulatory Commission, Washington, DC 20555-0001 (e-mail address for filings regarding license transfer cases only: ogclt@nrc.gov; and the Secretary of the Commission, U.S. Nuclear Regulatory Commission, Washington, DC 20555-0001, Attention: Rulemakings and Adjudications Staff, in accordance with 10 CFR 2.305.

The Commission will issue a notice or order granting or denying a hearing request or intervention petition, designating the issues for any hearing that will be held and designating the Presiding Officer. A notice granting a hearing will be published in the Federal Register and served on the parties to the hearing.

As an alternative to requests for hearing and petitions to intervene, by October 14, 2004, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the application dated June 14, 2004, available for public inspection at the Commission's Public Document Room (PDR), located at One White Flint North, Public File Area O1 F21, 11555 Rockville Pike (first floor), Rockville, Maryland. Publicly available records will be accessible electronically from the Agencywide Documents Access and Management System's (ADAMS) Public Electronic Reading Room on the Internet at the NRC Web site, http://www.nrc.gov/reading-rm/adams.html (ADAMS Accession Nos. ML041700579, ML041700583, and ML041750439). Persons who do not have access to ADAMS or who encounter problems in accessing the documents located in ADAMS, should contact the NRC PDR Reference staff by telephone at 1-800-397-4209, 301-415-4737 or by e-mail to pdr@nrc.gov.

Dated in Rockville, Maryland this 31st day of August, 2004.
For The Nuclear Regulatory Commission.
Andrew Persinko,
Acting Deputy Director, Decommissioning Directorate, Division of Waste Management and Environmental Protection, Office of Nuclear Material Safety and Safeguards.

[FR Doc. 04-20193 Filed 9-3-04; 8:45 am]

BILLING CODE 7590-01-P